SOCIAL SECURITY ADMINISTRATION

Agency Information Collection Activities: Proposed Request and Comment Request

The Social Security Administration (SSA) publishes a list of information collection packages that will require clearance by the Office of Management and Budget (OMB) in compliance with P.L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Program Consultation—20 CFR 404.1601—1661-0960-New. The Disability Determination Services (DDS) offices are staffed by State employees who perform disability determinations for applicants for Social Security disability benefits under Title II and Title XVI of the Social Security Act.

SSA's federal regional quality assurance office has the authority to review DDS determinations, to assess errors, and to return cases for corrective action by the DDS.

The information collected on the Request for Program Consultation (RPC) will be used by the DDS's that request a review of the regional quality assurance evaluations. The DDS's use the RPC to present their rationale that supports their determinations. The information collected includes a short rationale and policy citations supporting their rebuttal. The RPC team will use the information to reassess their initial determination.

The respondents are DDS's who request a review of the regional quality assurance determination.

Type of Request: Request for a new information collection.

Number of Respondents: 4500.

Frequency of Response: 1.

Average Burden Per Response: 50 minutes.

Estimated Annual Burden: 3750 hours.

2. Request to Decision Review Board To Vacate the Administrative Law Judge Dismissal of Hearing—20 CFR 405.427—0960-NEW. The information collected on Form SSA-525 will be used by Social Security Administration's Decision Review Board (Board) when a hearing on a claim for Title II or Title XVI disability payments is dismissed and the claimant requests that the dismissal be vacated. The Board will use this information to (1) establish the continued involvement of the requester in his or her claim;

(2) consider the requester's arguments for vacating the dismissal; and (3) vacate or decline to vacate the administrative law judge's dismissal order. The respondents are Social Security disability or Supplemental Security Income (SSI) claimants who are requesting that the dismissal be vacated.

Type of Request: Request for a new information collection.

Number of Respondents: 30,000.

Frequency of Response: 1.

Average Burden per Response: 10 minutes.

Estimated Annual Burden: 5,000 hours.

3. Medical History and Disability Report, Disabled Child—20 CFR 416.912—0960-0577. The Social Security Act requires claimants to furnish medical and other evidence to prove they are disabled. The form SSA-3820 is used to obtain various types of information about a child's condition, his/her treating sources and/or other medical sources of evidence. The information collected on the SSA-3820 is needed for the determination of disability by the State DDSs. The respondents are applicants for Title XVI (SSI) child disability benefits.

Type of Request: Revision to an OMB-approved information collection.

Collection format | Number of respondents | Frequency of responses | Average burden per responses (hours) | Estimated annual burden (hours)
SSA-3820 (Paper Form) | 500 | 1 | 1 | 500
Electronic Disability Collection System (EDCS) | 422,000 | 1 | ¹ 34 | 239,133
i3820 (Internet) | 39,500 | 1 | 2 | 79,000
Totals | 462,000 |  |  | 318,633
1 Minutes.

4. Social Security Disability Report—20 CFR 404.1512 & 416.912—0960-0579. The Social Security Administration requires applicants for disability payments to furnish medical, work history, and other evidence or information indicating they have an impairment which is disabling. This information is collected by form SSA-3368, the Adult Disability Report, and is used by State DDS's to make disability determinations for SSA.

The respondents are applicants for Title II and Title XVI disability benefits. These applicants may complete the form using any of the following modalities: (1) The traditional paper form; (2) an interview with an SSA field office representative, using the Electronic Disability Collection System (EDCS); (3) the Internet (i3368); and (4) a modality, the i3368-PRO, an Internet form designed to be completed by representatives of applicants for disability payments. The latter three versions of the form collect the same information as the paper form, but may be formatted differently and include certain enhancements (ex: self-help screens) to guide the claimant or interviewer through the application process.

Type of Request: Revision to an OMB-approved information collection.

Collection format | Number of respondents | Frequency of response | Average burden per response (hours) | Estimated annual burden (hours)
SSA-3368 (Paper version) | 9,364 | 1 | 1 | 9,364
Field office/Electronic Disability Collection System (EDCS) | 3,138,920 | 1 | 1 | 3,138,920
i3368 (Internet version; Hour burden varies from 1½-3 hours, depending on information required) | 101,135 | 1 | 2½ | 252,837
i3368-PRO | 101,135 | 1 | 1½ | 151,702
Totals | 3,350,554 |  |  | 3,552,823

5. Certification of Contents of Document(s) or Record(s)—20 CFR 404.715 ff-0960-689. SSA must secure evidence necessary for individuals to establish rights to benefits. Some of the types of evidence needed are evidence of age relationship, citizenship, marriage, death, and military service. Form SSA-704 allows SSA employees, state record custodians, and other custodians of evidentiary documents to record information from documents and records to establish these types of evidence. SSA employees use this form but it is also used by state record custodians and other custodians of evidentiary documents.

Type of Request: Extension of an OMB-approved information collection.

Number of Respondents: 4,800.

Average Burden Per Response: 10 minutes.

Estimated Annual Burden: 800.

6. Waiver of Your Right to Personal Appearance before an Administrative Law Judge—20 CFR 404.948(b)(l)(i) and 416.1448(b)(l)(i) -0960-0284. Each claimant has a statutory right to appear in person (or through a representative) and present evidence about his/her claim at a hearing before an Administrative Law Judge (ALJ). If a claimant wishes to waive his/her statutory right to appear before an ALJ, he/she must complete a written request. The claimant may use Form HA-4608 for this request. The information collected is used to document an individual's claim to show that an oral hearing is not preferred in the appellate process. The respondents are applicants for Title II benefits and Title XVI payments who request a hearing.

Number of Respondents: 12,000.

Frequency of Response: 1.

Average Burden per Response: 2 minutes.

Estimated Annual Burden: 400 hours.

7. Youth Transition Process Demonstration Evaluation Data Collection-0960-0687.

Background

The Youth Transition Demonstration (YTD) projects are intended to help young people with disabilities make the transition from school to work. By waiving certain disability program rules and offering services to youth who are either receiving disability benefits or at risk of receiving them, these projects are expected to encourage youth to work and/or continue their education. YTD projects will be fully implemented in 10 sites across the country. The evaluation will produce empirical evidence on the impacts of the waivers and project services not only on educational attainment, employment, earnings, and receipt of benefits by youth with disabilities but also on the Social Security Trust Fund and federal income tax revenues. This type of project is authorized by sections 1110 and 234 of the Social Security Act.

Project Description

Given the importance of estimating YTD impacts as accurately as possible, the evaluation will be conducted using rigorous analytic methods based on the random assignment of youth to a treatment or control group. Several data collection efforts are planned. These include (1) baseline interviews with youth and their parents or guardians prior to random assignment; (2) follow-up interviews at 12 and 36 months after random assignment; (3) interviews and/or roundtable discussions with local program administrators, program supervisors, and service delivery staff; and (4) focus groups of youth, their parents, and service providers. The respondents will be youths with disabilities who have enrolled in the project, their parents or guardians, program staff, and service providers.

Type of Request: Revision of an existing OMB Clearance.

Data collection year | Collection | Number of respondents | Responses per respondent | Average burden per response (minutes) | Total response burden (hours)
2007 | Baseline | 962 | 1 | 33 | 529
| 12 month follow-up | 437 | 1 | 50 | 364
| Focus group | 140 | 1 | 90 | 210
| Program staff/service provider | 32 | 1 | 60 | 32
Total 2007 |  |  |  |  | 1,135

8. Annual Registration Statement Identifying Separated Participants With Deferred Benefits, Schedule SSA—0960-0606. Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the Schedule SSA on behalf of the pension benefit plan. Below are the estimates of the cost and hour burdens for completing and filing Schedule SSA(s). We have used an average to estimate the hour burden. However, the burden may be greater or smaller depending on whether the respondent is a large or small pension benefit plan and how many Schedule SSA's are filed in a given year.

Type of Request: Extension of an OMB-approved information collection.

Number of Respondents: 88,000.

Frequency of Response: 1.

Average Burden per Response: 2.5 hours.

Estimated Annual Burden: 220,000 hours.

Estimated Annual Cost Burden for All Respondents: $12,194,400.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Application for Benefits under the Italy-U.S. International Social Security Agreement—20 CFR 404.19250—960-0445. The United States and Italy entered into an agreement on November 1, 1978. Article 19.2 of that agreement provides that an applicant for benefits can file his application with either country. Article 4.3 of the Protocol to the Agreement provides that the country that receives the application will forward agreed upon forms and applications to the other country. Form SSA-2528 is the form agreed upon that is completed by individuals who file an application for U.S. benefits directly with one of the Italian Social Security Agencies. The information collected on Form SSA-2528 is required by SSA in order to determine entitlement to benefits. The respondents are applicants for old-age, survivors or disability benefits, who reside in Italy.

Type of Request: Extension of an OMB-approved information collection

Number of Respondents: 200.

Frequency of Response: 1.

Average Burden per Response: 20 minutes.

Estimated Annual Burden: 67 hours.

2. Physician's/Medical Officer's Statement of Patient's Capability to Manage Benefits—20 CFR 404.2015 & 416.615—0960-0024. The information collected on the SSA-787 is used to determine whether an individual is capable of handling his or her own benefits. This information is also used for leads in selecting a representative payee, if needed. The respondents are physicians of the beneficiaries or medical officers of the institution in which the beneficiaries reside.

Type of Request: Revision of an OMB-approved information collection.

Number of Respondents: 120,000.

Frequency of Response: 1.

Average Burden per Response: 10 minutes.

Estimated Annual Burden: 20,000 hours.

3. Modified Benefit Formula Questionnaire—Foreign Pension—0960-0561. The information collected on the SSA-308 is used to determine exactly how much (if any) of a foreign pension may be used to reduce the amount of Social Security retirement or disability benefits under the modified benefit formula. The respondents are applicants for Social Security retirement or disability benefits.

Type of Request: Extension of an OMB-approved information collection.

Number of Respondents: 50,000.

Frequency of Response: 1.

Average Burden per Response: 10 minutes.

Estimated Annual Burden: 8,333 hours.

4. Social Security Benefits Applications—20 CFR Subpart D, 404.310-404.311 and 20 CFR Subpart F, 404.601-401.603—0960-0618. One of the requirements for obtaining Social Security benefits is the filing of an application so that a determination may be made on the applicant's eligibility for monthly benefits. In addition to the traditional paper application, SSA has developed various options, listed below, for the public to add convenience and operational efficiency to the application process. The total estimated number of respondents to all application collections formats is 3,843,369 with a cumulative total of 963,056 burden hours. The respondents are applicants for retirement insurance benefits (RIB), disability insurance benefits (DIB), and/or spouses' benefits.

Type of Request: Extension of an OMB-approved information collection.

Internet Social Security Benefits Application (ISBA)

ISBA, which is available through SSA's Internet site, is one method that an individual can choose to file an application for benefits. Individuals can use ISBA to apply for retirement insurance benefits (RIB), disability insurance benefits (DIB) and spouse's insurance benefits based on age. SSA gathers only information relevant to the individual applicant's circumstances and will use the information collected by ISBA to entitle individuals to RIB, DIB, and/or spouses' benefits. The respondents are applicants for RIB, DIB, and/or spouses benefits.

Number of Respondents: 169,000.

Frequency of Response: 1.

Average Burden per Response: 20.4 minutes.

Estimated Annual Burden: 57,460 hours.

Paper Application Forms

Application for Retirement Insurance Benefits (SSA-1)

The SSA-1 is used by SSA to determine an individual's entitlement to RIB. In order to receive Social Security RIB, an individual must file an application with SSA. The SSA-1 is one application that the Commissioner of Social Security prescribes to meet this requirement. The information that SSA collects will be used to determine entitlement to benefits. The respondents are individuals who choose to apply for Social Security RIB using the paper application.

Approximately 1,460,692 respondents complete the SSA-1 annually. Of this total 97% (1,416,871) are completed through SSA's Modernized Claims System (MCS) and 50% of the MCS respondents will use Signature Proxy (708,435.5). The breakdown is displayed on the following chart.

Collection method | Number of respondents | Estimated completion time (minutes) | Burden hours
MCS | 708,436 | 10.5 | 123,976
MCS/Signature Proxy | 708,435 | 9.5 | 112,169
Paper | 43,821 | 10.5 | 7,669
Totals | 1,460,692 |  | 243,814

Application for Wife's or Husband's Insurance Benefits (SSA-2)

SSA uses the information collected on Form SSA-2 to determine if an applicant (including a divorced applicant) can be entitled to benefits as the spouse of the worker and the amount of the spouse's benefits. The respondents are applicants for wife's or husband's benefits, including those who are divorced.

Approximately 700,000 respondents complete the SSA-2 annually. Of this total 95% (665,000) are completed through MCS and 50% of the MCS respondents will use Signature Proxy (332,500). The breakdown is displayed on the following chart:

Collection method | Number of respondents | Estimated completion time (minutes) | Burden hours
MCS | 332,500 | 15 | 83,125
MCS/Signature Proxy | 332,500 | 14 | 77,583
Paper | 35,000 | 15 | 8,750
Totals | 700,000 |  | 169,458

Application for Disability Insurance Benefits (SSA-16)

Form SSA-16-F6 obtains the information necessary to determine whether the provisions of the Act have been satisfied with respect to an applicant for disability benefits, and detects whether the applicant has dependents who would qualify for benefits on his or her earnings record. The information collected on form SSA-16 helps to determine eligibility for Social Security disability benefits. The respondents are applicants for Social Security disability benefits.

Approximately 1,513,677 respondents complete the SSA-16 annually. Of this total 97% (1,468,267) are completed through SSA's Modernized Claims System (MCS) and 50% of the MCS respondents will use Signature Proxy (734,133.5). The breakdown is displayed on the following chart:

Collection method | Number of respondents | Estimated completion time (minutes) | Burden hours
MCS | 734,134 | 20 | 244,711
MCS/Signature Proxy | 734,133 | 19 | 232,476
Paper | 45,410 | 20 | 15,137
Totals | 1,513,677 |  | 492,324

Dated: April 17, 2007.
Elizabeth A. Davidson,
Reports Clearance Officer, Social Security Administration.

[FR Doc. E7-7649 Filed 4-20-07; 8:45 am]

BILLING CODE 4191-02-P